FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), to approve of and assign OMB numbers to collection of information requests and requirements conducted or sponsored by the Board. Board-approved collections of information are incorporated into the official OMB inventory of currently approved collections of information. Copies of the PRA Submission, supporting statements and approved collection of information instruments are placed into OMB's public docket files. The Federal Reserve may not conduct or sponsor, and the respondent is not required to respond to, an information collection that has been extended, revised, or implemented on or after October 1, 1995, unless it displays a currently valid OMB number.

DATES: Comments must be submitted on or before September 21, 2015.

ADDRESSES: You may submit comments, identified by FR 2082 or RFP/Q, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room 3515, 1801 K Street (between 18th and 19th Streets NW.) Washington, DC 20006 between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for comment on information collection proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal to approve under OMB delegated authority the extension for three years, without revision, of the following report

1. Report title: Registration of a Securities Holding Company.

Agency form number: FR 2082.

OMB control number: 7100-0347.

Frequency: On occasion.

Reporters: Securities holding companies.

Estimated annual reporting hours: 40 hours.

Estimated average hours per response: 8 hours.

Number of respondents: 5.

General description of report: The confidentiality of the forms required to be filed pursuant to section 241.3(b)(3)(i) is covered in specific memoranda relating to those forms. With respect to the “Registration of a Securities Holding Company” form required pursuant to section 241.3(a)(1), the information submitted on and with the form is normally public. However, a company may seek confidential treatment for any such information that it believes is exempt from disclosure under the Freedom of Information Act (FOIA) (5 U.S.C. 552(b)(1)-(9)). A determination of confidentiality would be made on a case-by-case basis.

Abstract: On June 4, 2012, the Federal Reserve published a final rulemaking for Securities Holding Companies (Regulation OO) in the Federal Register (77 FR 32881). Regulation OO implements section 618 of the Dodd-Frank Wall Street Reform and Consumer Protection Act (Dodd-Frank Act), which permits nonbank companies that own at least one registered securities broker or dealer, and that are required by a foreign regulator or provision of foreign law to be subject to comprehensive consolidated supervision, to register with the Board and subject themselves to supervision by the Board.

Proposal to approve under OMB delegated authority the extension for three years, with revision, of the following report

1. Report title: Request for Proposal and Request for Price Quotations.

Agency form number: RFP and RFPQ.

OMB control number: 7100-0180.

Frequency: On occasion.

Reporters: Vendors of goods and services.

Estimated annual reporting hours: RFP: 17,500 hours; RFPQ: 4,400 hours; Subcontractor report: 50 hours.

Estimated average hours per response: RFP: 50 hours; RFPQ: 2 hours; Subcontractor report: 20 minutes.

Number of respondents: RFP: 350; RFPQ: 2,200; Subcontractor report: 150.

General description of report: The RFP and RFPQ are required to obtain a benefit and are authorized by Sections 10(3), 10(4), and 11(1) of the Federal Reserve Act (12 U.S.C. 243, 244, and 248(l)). With regard to the Subcontracting Report, Section 342(c) of Dodd-Frank requires the Federal Reserve to develop and implement standards and procedures to assess the diversity policies and practices in all business and activities of the agency at all levels, including procurement, insurance, and all types of contracts. (12 U.S.C. 5452(c)(1)). “Such procedure shall include a written statement, in a form and with such content as the Director [of OMWI] shall prescribe . . . that a contractor shall ensure . . . the fair inclusion of women and minorities in the workforce of the contractor and, as applicable, subcontractors.” (12 U.S.C. 5452(c)(2)).

Proposals from vendors that are not accepted and incorporated into contracts with the Federal Reserve would be protected from Freedom of Information (FOIA) disclosure by 41 U.S.C. 4702, which expressly prohibits FOIA disclosure of these proposals. Moreover, during the solicitation process vendors are permitted to mark information contained in their proposals that is proprietary or confidential with the label RESTRICTED DATA. For information so marked, the Federal Reserve also may determine on a case-by-case basis whether FOIA exemption 4, which applies to “trade secrets and commercial or financial information,” would protect information from disclosure pursuant to a FOIA request (5 U.S.C. 552(b)(4)).

Abstract: The Federal Reserve uses the RFP and the RFPQ as appropriate to obtain competitive proposals and contracts from approved vendors of goods and services. This information collection is required to collect data on prices, specifications of goods and services, and qualifications of prospective vendors.

Current Actions: In connection with the RFP and RFPQ process, the Federal Reserve proposes to require prime contractors to submit a Subcontracting Report that would collect information about their subcontractors' commitments toward diversity and inclusion of minority-owned and women-owned vendors in the subcontractor's activities.

Board of Governors of the Federal Reserve System, July 20, 2015.
Robert deV. Frierson,
Secretary of the Board.

[FR Doc. 2015-18059 Filed 7-22-15; 8:45 am]

BILLING CODE 6210-01-P